DEPARTMENT OF HEALTH AND HUMAN SERVICES

National Institutes of Health

Proposed Collection; 60 Day Comment Request; Assessment of NHLBI's Global Health Initiative Collaborating Centers of Excellence (NHLBI)

SUMMARY: In compliance with the requirement of Section 3506(c)(2)(A) of the Paperwork Reduction Act of 1995, for opportunity for public comment on proposed data collection projects, the National Heart, Lung, and Blood Institute (NHLBI), the National Institutes of Health (NIH), will publish periodic summaries of proposed projects to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, submit comments in writing, or request more information on the proposed project, contact: Deshiree Belis, 6705 Rockledge Drive, Suite 6070, Bethesda, MD 20892, or call non-toll-free number (301)-435-1032, or Email your request to: deshiree.belis@nih.gov. Formal requests for additional plans and instruments must be requested in writing.

Comments Due Date: Comments regarding this information collection are best assured of having their full effect if received within 60 days of the date of this publication.

Proposed Collection: Assessment of NHLBI's Global Health Initiative Collaborating Centers of Excellence, 0925-New, National Heart, Lung, and Blood Institute (NHLBI), the National Institutes of Health (NIH).

Need and Use of Information Collection: This collection proposes to conduct a one-time outcome evaluation of the NHLBI Global Health Initiative Centers of Excellence (GHI COE) Program to examine the extent to which the program achieved its intended objectives in developing sustainable research and research training capacity, and advancing information about the prevention and treatment of chronic non-communicable chronic cardiovascular and pulmonary diseases (CVPD) in low- and middle-income country (LMIC) populations. The outcome evaluation will utilize a mixed-methods approach to comprehend each COE's processes, short term outcomes, and sustainability outcomes/efforts. Specifically, the evaluation will involve triangulating quantitative data sources (e.g., archived systematic reporting data), and qualitative data sources (e.g., archival data and key informant interview data). Data collected will be used to develop a Case Study report for each COE outlining their experience with implementing their program as well as a comprehensive cross-site Lessons Learned Report describing knowledge and experiences from the overall program, including similarities and differences across a variety of project settings and conditions. Findings from interviews will be incorporated into the Case Studies report and Lessons Learned report, which will be used by CTRIS to inform NHLBI and NIH stakeholders about structural issues relevant to planning both global and domestic biomedical research and training programs with diverse operational conditions and challenges. Additionally, COEs may utilize the Case Studies report as a marketing tool to attract additional funding and media coverage.

OMB approval is requested for 3 years. There are no costs to respondents other than their time. The total estimated annualized burden hours are 36.

Estimated Annualized Burden Hours
Type of respondent | Number of respondents | Number of responses per respondent | Average burden per response (in hours) | Total annual burden hour
Principal Investigators | 9 | 1 | 1 | 9
Training Directors | 9 | 1 | 1 | 9
Developed Country Partners | 9 | 1 | 1 | 9
Trainees | 9 | 1 | 1 | 9

Dated: February 23, 2015.
Lynn Susulske,
NHLBI Project Clearance Liaison, National Institutes of Health.

[FR Doc. 2015-05722 Filed 3-12-15; 8:45 am]

BILLING CODE 4140-01-P